DEPARTMENT OF COMMERCE

International Trade Administration

[A-201-848]

Emulsion Styrene-Butadiene Rubber From Mexico: Final Results of Antidumping Duty Administrative Review; 2019-2020

AGENCY: Enforcement and Compliance, International Trade Administration, Department of Commerce.

SUMMARY: The Department of Commerce (Commerce) determines that Industrias Negromex S.A. de C.V. (Negromex) sold emulsion styrene-butadiene rubber (ESB rubber) from Mexico in the United States at less than normal value during the period of review (POR) September 1, 2019, through August 31, 2020.

DATES: Applicable February 10, 2022.

FOR FURTHER INFORMATION CONTACT: Brittany Bauer or Christopher Maciuba, AD/CVD Operations, Office V, Enforcement and Compliance, International Trade Administration, Department of Commerce, 1401 Constitution Avenue NW, Washington, DC 20230; telephone: (202) 482-3860 or (202) 482-0413, respectively.

SUPPLEMENTARY INFORMATION:

Background

On October 6, 2021, Commerce published the Preliminary Results.¹ We invited interested parties to comment on the Preliminary Results.² Because we received no comments, the final results remain unchanged from the Preliminary Results.

¹ See Emulsion Styrene-Butadiene Rubber from Mexico: Preliminary Results of the Antidumping Duty Administrative Review; 2019-2020, 86 FR 55579 (October 6, 2021) (Preliminary Results), and accompanying Preliminary Decision Memorandum (PDM).

² See Preliminary Results, 86 FR at 55579.

Commerce conducted this review in accordance with section 751 of the Tariff Act of 1930, as amended (the Act).

Scope of the Order

The merchandise covered by the order is ESB rubber from Mexico. For a complete description of the scope of the order, see Preliminary Results PDM.

Final Results of the Review

We determine that the following weighted-average dumping margin exists for the respondent for the POR, September 1, 2019, through August 31, 2020:

Exporter/producer | Weighted- average dumping margin (percent)
Industrias Negromex S.A. de C.V | 2.65

Disclosure

As noted above, no party commented on the Preliminary Results. As a result, we have not modified our analysis from the Preliminary Results, and we will not issue a decision memorandum to accompany this Federal Register notice. We are adopting the Preliminary Results as the final results of this review. Further, because we have not changed our calculations since the Preliminary Results, there are no new calculations to disclose in accordance with 19 CFR 351.224(b) for these final results.

Assessment Rates

Pursuant to section 751(a)(2)(C) of the Act and 19 CFR 351.212(b)(1), Commerce has determined, and U.S. Customs and Border Protection (CBP) shall assess, antidumping duties on all appropriate entries of subject merchandise in accordance with the final results of this review. For Negromex, because its weighted-average dumping margin is not zero or de minimis (i.e., less than 0.5 percent), we will calculate importer-specific ad valorem assessment rates based on the ratio of the total amount of dumping calculated for the examined sales to the total entered value of those same sales.

Consistent with Commerce's assessment practice, for entries of subject merchandise during the POR produced by Negromex for which Negromex did not know that the merchandise was destined for the United States, we will instruct CBP to liquidate unreviewed entries at the all-others rate if there is no rate for the intermediate company(ies) involved in the transaction.³

³ For a full discussion of this practice, see Antidumping and Countervailing Duty Proceedings: Assessment of Antidumping Duties, 68 FR 23954 (May 6, 2003).

Commerce intends to issue assessment instructions to CBP no earlier than 41 days after the date of publication of the final results of this review in the Federal Register, in accordance with 19 CFR 356.8(a).

Cash Deposit Requirements

The following cash deposit requirements for estimated antidumping duties will be effective for all shipments of subject merchandise entered, or withdrawn from warehouse, for consumption on or after the publication date of the final results of this administrative review, as provided by section 751(a)(2)(C) of the Act: (1) The cash deposit rate for Negromex will be equal to its weighted-average dumping margin established in the final results of this administrative review; (2) for merchandise exported by a producer or exporter not covered in this review, but covered in a prior completed segment of the proceeding, the cash deposit rate will continue to be the company-specific rate published for the most recently-completed segment of this proceeding; (3) if the exporter is not a firm covered in this review, a prior review, or the original less-than-fair-value (LTFV) investigation, but the producer has been covered in a prior completed segment of this proceeding, the cash deposit rate will be the company-specific rate established for the most recent period for the producer of the merchandise; and (4) the cash deposit rate for all other producers or exporters will continue to be 19.52 percent,⁴ the all-others rate established in the LTFV investigation. These cash deposit requirements, when imposed, shall remain in effect until further notice.

⁴ See Emulsion Styrene-Butadiene Rubber from Brazil, the Republic of Korea, Mexico, and Poland: Antidumping Duty Orders, 82 FR 42790, 42791 (September 12, 2017).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

We are issuing and publishing this notice in accordance with sections 751(a)(1) and 777(i) of the Act.

Dated: February 3, 2022.
Lisa W. Wang,
Assistant Secretary for Enforcement and Compliance.

[FR Doc. 2022-02761 Filed 2-9-22; 8:45 am]

BILLING CODE 3510-DS-P